FEDERAL COMMUNICATIONS COMMISSION

47 CFR Part 73

[DA No. 01-879; MM Docket No. 00-54; RM-9835 & RM-9907]

Radio Broadcasting Services; Bogata, TX

AGENCY: Federal Communications Commission.

ACTION: Final rule.

SUMMARY: Bogata Broadcasting Company (“BBC”) filed a Petition for Reconsideration of the Report and Order which allotted Channel 263A to Bogata, Texas. See 65 FR 67655, November 13, 2000. BBC has withdrawn its interest in Channel 263A at Bogata and requests that the allotment be rescinded. Action in this document grants the Petition for Reconsideration, deleting Channel 263A and Bogata from the FM Table of Allotments. With this action, this proceeding is terminated.

DATES: Effective May 21, 2001.

FOR FURTHER INFORMATION CONTACT: Kathleen Scheuerle, Mass Media Bureau, (202) 418-2180

SUPPLEMENTARY INFORMATION: This is a summary of the Commission's Report and Order, MM Docket No. 00-54, March 28, 2001, and released April 6, 2001. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Texas, is amended by removing Channel 263A and Bogata.

Federal Communications Commission.
John A. Karousos,
Chief, Allocations Branch, Policy and Rules Division, Mass Media Bureau.

[FR Doc. 01-10701 Filed 4-30-01; 8:45 am]

BILLING CODE 6712-01-P